DEPARTMENT OF ENERGY

Federal Energy Regulatory Commission

Combined Notice of Filings #1

March 26, 2007.

Take notice that the Commission received the following electric corporate filings:

Docket Numbers: EC07-70-000.

Applicants: Calcasieu Power, LLC; Entergy Gulf States, Inc.

Description: Calcasieu Power, LLC and Entergy Gulf States, Inc. submit a Joint application for order authorizing the acquisition and disposition of jurisdictional assets under section 203 of the FPA.

Filed Date: 03/15/2007.

Accession Number: 20070326-0041.

Comment Date: 5 p.m. Eastern Time on Monday, April 30, 2007.

Docket Numbers: EC07-72-000.

Applicants: Brookfield Asset Management Inc.; Horizon Acquisition Co; Longview Fibre Company.

Description: Brookfield Asset Management, Inc. et al. submit an application for authorization under Section 203(a)(2) of the Federal Act.

Filed Date: 03/22/2007.

Accession Number: 20070323-0183

Comment Date: 5 p.m. Eastern Time on Thursday, April 12, 2007.

Take notice that the Commission received the following exempt wholesale generator filings:

Docket Numbers: EG07-43-000.

Applicants: Sleeping Bear, LLC.

Description: Sleeping Bear, LLC submits its notice of self-certification for a qualifying facility.

Filed Date: 03/22/2007.

Accession Number: 20070322-5021.

Comment Date: 5 p.m. Eastern Time on Thursday, April 12, 2007.

Take notice that the Commission received the following electric rate filings:

Docket Numbers: ER06-615-006.

Applicants: California Independent System Operator Corporation.

Description: California Independent System Operator Corp submits its Ancillary Service Sub-Regions, and Reliability Must-Run resources & market resources in compliance with FERC's 9/21/06 Order.

Filed Date: 03/20/2007.

Accession Number: 20070323-0181.

Comment Date: 5 p.m. Eastern Time on Tuesday, April 10, 2007.

Docket Numbers: ER06-1474-003.

Applicants: PJM Interconnection LLC.

Description: PJM Interconnection, LLC submits a compliance filing providing additional information and amendments to the Amended and Restated Operating Agreement.

Filed Date: 03/21/2007.

Accession Number: 20070323-0186.

Comment Date: 5 p.m. Eastern Time on Wednesday, April 11, 2007.

Docket Numbers: ER07-95-003.

Applicants: Michigan Electric Transmission Company, LLC; Midwest Independent Transmission System, Inc.

Description: Michigan Electric Transmission Company, LLC et al. submit revised tariff sheets, Substitute Original Sheet 1365Z.16A et al. to FERC Electric Tariff, Third Revised Vol 1, compliance with Commission's 2/21/07 Order.

Filed Date: 03/23/2007.

Accession Number: 20070326-0017.

Comment Date: 5 p.m. Eastern Time on Friday, April 13, 2007.

Docket Numbers: ER07-318-001.

Applicants: National Grid.

Description: Niagara Mohawk Power Corp dba National Grid submits an amendment to its 12/13/06 filing of an Original Service Agreement with New Athens Generating Co, LLC.

Filed Date: 03/21/2007.

Accession Number: 20070323-0182.

Comment Date: 5 p.m. Eastern Time on Wednesday, April 11, 2007.

Docket Numbers: ER07-365-001.

Applicants: ISO New England Inc.; New England Power Pool Participants Committee.

Description: ISO New England and the New England Power Pool Participants Committee submit a joint compliance filing re revisions to Market Rule 1 relating to the Methodology for Calculating Installed Capacity Requirements.

Filed Date: 03/20/2007.

Accession Number: 20070323-0180.

Comment Date: 5 p.m. Eastern Time on Tuesday, April 10, 2007.

Docket Numbers: ER07-482-001.

Applicants: Xcel Energy Services Inc.

Description: Xcel Energy Services Inc, agent for Northern States Power Co et al. submits an errata to its 1/30/07 filing.

Filed Date: 03/21/2007.

Accession Number: 20070323-0185.

Comment Date: 5 p.m. Eastern Time on Wednesday, April 11, 2007.

Docket Numbers: ER07-636-000; ER07-637-000.

Applicants: Calcasieu Power, LLC; Entergy Gulf States, Inc.

Description: Calcasieu Power, LLC submits a notice of termination of rate schedule and Tariff.

Filed Date: 03/15/2007.

Accession Number: 20070326-0041.

Comment Date: 5 p.m. Eastern Time on Thursday, April 05, 2007.

Docket Numbers: ER07-643-000.

Applicants: Southwest Power Pool, Inc.

Description: Southwest Power Pool, Inc submits eight executed Meter Agent Services Agreements with American Electric Power and various participants.

Filed Date: 03/21/2007.

Accession Number: 20070323-0179.

Comment Date: 5 p.m. Eastern Time on Wednesday, April 11, 2007.

Docket Numbers: ER07-644-000.

Applicants: New York Independent System Operator, Inc.

Description: New York Independent System Operator, Inc submits proposed revisions to its Market Administration and Control Area Services Tariff.

Filed Date: 03/21/2007.

Accession Number: 20070323-0184.

Comment Date: 5 p.m. Eastern Time on Wednesday, April 11, 2007.

Docket Numbers: ER07-645-000.

Applicants: Sleeping Bear, LLC.

Description: Sleeping Bear LLC submits a petition for order accepting market-based rate tariff for filing and granting waivers and blanket approvals.

Filed Date: 03/22/2007.

Accession Number: 20070326-0018.

Comment Date: 5 p.m. Eastern Time on Thursday, April 12, 2007.

Docket Numbers: ER07-646-000.

Applicants: Arizona Public Service Company.

Description: Arizona Public Service Company submits an executed transmission Interconnection Agreement with Southwest Transmission Cooperative, Inc.

Filed Date: 03/23/2007.

Accession Number: 20070326-0015.

Comment Date: 5 p.m. Eastern Time on Friday, April 13, 2007.

Docket Numbers: ER07-647-000.

Applicants: PJM Interconnection, LLC.

Description: PJM Interconnection, LLC submits an executed construction service agreement with Camp Grove Wind Farm, LLC and Commonwealth Edison Co.

Filed Date: 03/22/2007.

Accession Number: 20070326-0020.

Comment Date: 5 p.m. Eastern Time on Thursday, April 12, 2007.

Docket Numbers: ER07-648-000.

Applicants: California Independent System Operator Corporation.

Description: California Independent System Operator Corporation submits a proposed amendment to Section 40.5.2.2 of the ISO tariff.

Filed Date: 03/22/2007.

Accession Number: 20070326-0019.

Comment Date: 5 p.m. Eastern Time on Thursday, April 12, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Philis J. Posey,
Acting Secretary.

[FR Doc. E7-5888 Filed 3-29-07; 8:45 am]

BILLING CODE 6717-01-P